DEPARTMENT OF ENERGY

Industrial Technology Innovation Advisory Committee

AGENCY: Office of Energy Efficiency and Renewable Energy, Department of Energy.

ACTION: Notice of open meeting.

SUMMARY: This notice announces the first meeting of the Industrial Technology Innovation Advisory Committee (ITIAC). The Federal Advisory Committee Act requires that public notice of this meeting be announced in the Federal Register.

DATES: Thursday, March 21, 2024: 9 a.m.-5 p.m. EDT; Friday, March 22, 2024: 9 a.m.-1 p.m. EDT

ADDRESSES: The first meeting of ITIAC will be held in person at U.S. Department of Energy headquarters in Washington, DC: 1000 Independence Ave. SW, Washington, DC 20024, with the option of virtual attendance. Members of the public are encouraged to participate virtually, as physical space to attend onsite is limited to members. The ITIAC website will contain announcements about the meeting, including instructions for registering to attend virtually: https://www.energy.gov/eere/iedo/industrial-technology-innovation-advisory-committee.

FOR FURTHER INFORMATION CONTACT: Dr. Zachary Pritchard, Industrial Efficiency and Decarbonization Office, U.S. Department of Energy, Washington, DC 20585; Telephone: (202) 246-4145 or Email: ITIAC@ee.doe.gov.

SUPPLEMENTARY INFORMATION:

Purpose of the Committee: The Industrial Technology Innovation Advisory Committee (Committee) was established pursuant to the Energy Independence and Security Act (EISA) of 2007 as amended by Public Law 116-260, and in accordance with the provisions of the Federal Advisory Committee Act (FACA), as amended, 5 U.S.C. 10. The Committee is established to advise the Secretary of Energy (Secretary) with respect to the Industrial Emissions Reductions Technology Development Program (the program) by identifying and evaluating any technologies being developed by the private sector relating to the focus areas described in section 454(c) of the EISA; identifying technology gaps in the private sector or other Federal agencies in those focus areas, and making recommendations on how to address those gaps; surveying and analyzing factors that prevent the adoption of emissions reduction technologies by the private sector; and recommending technology screening criteria for technology developed under the program to encourage adoption of the technology by the private sector.

Purpose of Meeting: ITIAC will hold a meeting on March 21-22, 2024 to initiate its work to develop a strategic plan on how to achieve the goals of the Industrial Emissions Reductions Technology Development Program and, in consultation with the Secretary and the Director of the Office of Science Technology and Policy (Director), propose missions and goals for the program consistent with the purposes of the program described in section 454(b)(1) of the EISA.

Tentative Agenda:

• Call to Order, Introductions, Review of the Agenda

• DOE Industrial Decarbonization Activities Overview

• Discussion on Next Steps

• Public Comment Period and Closing Remarks

• Adjourn

All attendees are requested to register in advance. The ITIAC website will be updated with instructions and links to register for the meeting: https://www.energy.gov/eere/iedo/industrial-technology-innovation-advisory-committee.

Public Participation: The ITIAC welcomes the attendance of the public at its meetings. Individuals who wish to offer public comments at the ITIAC meeting may do so on March 22, 2024, but must register in advance by 5 p.m. Eastern time on March 20, 2024, by sending a written request identified by “ITIAC March 2024 Meeting,” to Dr. Zachary Pritchard at ITIAC@ee.doe.gov. Approximately 15 minutes will be reserved for public comments. Time allotted per speaker will depend on the number who wish to speak but is not expected to exceed three minutes. Anyone who is not able to attend the meeting, or for whom the allotted public comments time is insufficient to address pertinent issues with the ITIAC, is invited to send a written statement identified by “ITIAC March 2024 Meeting—Written Statement,” to Dr. Zachary Pritchard at ITIAC@ee.doe.gov.

Minutes: Minutes will be posted on the ITIAC website: https://www.energy.gov/eere/iedo/industrial-technology-innovation-advisory-committee. They can also be obtained by contacting ITIAC@ee.doe.gov.

Signing Authority: This document of the Department of Energy was signed on February 28, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 28, 2024.
Treena V. Garrett,
Federal Register Liaison Officer, U.S. Department of Energy.

[FR Doc. 2024-04482 Filed 3-1-24; 8:45 am]

BILLING CODE 6450-01-P